DEPARTMENT OF TRANSPORTATION

Federal Aviation Administration

14 CFR Part 39

[Docket No. FAA-2022-1573; Project Identifier MCAI-2022-00671-T; Amendment 39-22353; AD 2023-04-06]

RIN 2120-AA64

Airworthiness Directives; Airbus SAS Airplanes

AGENCY: Federal Aviation Administration (FAA), DOT.

ACTION: Final rule.

SUMMARY: The FAA is superseding Airworthiness Directive (AD) 2020-22-16, AD 2021-16-01, and AD 2022-04-03, which applied to certain Airbus SAS Model A318, A320, and A321 series airplanes; and Model A319-111, -112, -113, -114, -115, -131, -132, -133, -151N, and -153N airplanes. AD 2020-22-16, AD 2021-16-01, and AD 2022-04-03 required revising the existing maintenance or inspection program, as applicable, to incorporate new or more restrictive airworthiness limitations. This AD was prompted by a determination that new or more restrictive airworthiness limitations are necessary. This AD continues to require the actions in AD 2020-22-16, AD 2021-16-01, and AD 2022-04-03, and also requires revising the existing maintenance or inspection program, as applicable, to incorporate additional new or more restrictive airworthiness limitations, as specified in a European Union Aviation Safety Agency (EASA) AD, which is incorporated by reference (IBR). The FAA is issuing this AD to address the unsafe condition on these products.

DATES: This AD is effective April 10, 2023.

The Director of the Federal Register approved the incorporation by reference of a certain publication listed in this AD as of April 10, 2023.

The Director of the Federal Register approved the incorporation by reference of certain other publications listed in this AD as of March 30, 2022 (87 FR 10064, February 23, 2022).

The Director of the Federal Register approved the incorporation by reference of certain other publications listed in this AD as of September 28, 2021 (86 FR 47212, August 24, 2021).

The Director of the Federal Register approved the incorporation by reference of certain other publications listed in this AD as of December 10, 2020 (85 FR 70439, November 5, 2020).

ADDRESSES:

AD Docket: You may examine the AD docket at regulations.gov under Docket No. FAA-2022-1573; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-1573.

FOR FURTHER INFORMATION CONTACT: Vladimir Ulyanov, Aerospace Engineer, Large Aircraft Section, FAA, International Validation Branch, 2200 South 216th St., Des Moines, WA 98198; telephone 206-231-3229; email Vladimir.Ulyanov@faa.gov.

SUPPLEMENTARY INFORMATION:

Background

The FAA issued a notice of proposed rulemaking (NPRM) to amend 14 CFR part 39 to supersede AD 2020-22-16, Amendment 39-21312 (85 FR 70439, November 5, 2020) (AD 2020-22-16), AD 2021-16-01, Amendment 39-21662 (86 FR 47212, August 24, 2021) (AD 2021-16-01), and AD 2022-04-03, Amendment 39-21944 (87 FR 10064, February 23, 2022) (AD 2022-04-03). AD 2020-22-16, AD 2021-16-01, and AD 2022-04-03 applied to certain Airbus SAS Model A318, A320, and A321 series airplanes; and Model A319-111, -112, -113, -114, -115, -131, -132, -133, -151N, and -153N airplanes. AD 2020-22-16, AD 2021-16-01, and AD 2022-04-03 required revising the existing maintenance or inspection program, as applicable, to incorporate new or more restrictive airworthiness limitations. AD 2021-16-01 specified that accomplishing the revision required by that AD terminates the corresponding requirements of AD 2020-22-16, for the tasks identified in the service information referred to in EASA AD 2020-0219, dated October 12, 2020, only. AD 2022-04-03 specified that accomplishing the revision required by that AD terminates the limitations of Task 262300-00001-1-C, as required by paragraph (i) of AD 2020-22-16, for airplanes with an original airworthiness certificate or original export certificate of airworthiness issued on or before January 17, 2020 only. The FAA issued AD 2020-22-16, AD 2021-16-01, and AD 2022-04-03 to address safety-significant latent failure (that is not annunciated), which, in combination with one or more other specific failures or events, could result in a hazardous or catastrophic failure condition.

The NPRM published in the Federal Register on December 6, 2022 (87 FR 74530). The NPRM was prompted by AD 2022-0091, dated May 20, 2022, issued by EASA, which is the Technical Agent for the Member States of the European Union (EASA AD 2022-0091) (referred to after this as the MCAI). The MCAI states that new or more restrictive airworthiness limitations have been developed to address the unsafe condition on these products.

In the NPRM, the FAA proposed to continue to require the actions in AD 2020-22-16, AD 2021-16-01, and AD 2022-04-03. The NPRM also proposed to require revising the existing maintenance or inspection program, as applicable, to incorporate additional new or more restrictive airworthiness limitations, as specified in EASA AD 2022-0091. The FAA is issuing this AD to address a safety significant latent failure (that is not annunciated), which, in combination with one or more other specific failures or events, could result in a hazardous or catastrophic failure condition.

You may examine the MCAI in the AD docket at regulations.gov under Docket No. FAA-2022-1573.

Discussion of Final Airworthiness Directive

Comments

The FAA received a comment from the Air Line Pilots Association, International (ALPA), who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed EASA AD 2022-0091, which specifies new or more restrictive airworthiness limitations for certification maintenance requirements.

This AD requires EASA AD 2020-0067, dated March 23, 2020; which the Director of the Federal Register approved for incorporation by reference as of December 10, 2020 (85 FR 70439, November 5, 2020).

This AD requires EASA AD 2020-0219, dated October 12, 2020, which the Director of the Federal Register approved for incorporation by reference as of September 28, 2021 (86 FR 47212, August 24, 2021).

This AD also requires EASA AD 2021-0108, dated April 20, 2021, which the Director of the Federal Register approved for incorporation by reference as of March 30, 2022 (87 FR 10064, February 23, 2022).

This material is reasonably available because the interested parties have access to it through their normal course of business or by the means identified in ADDRESSES.

Costs of Compliance

The FAA estimates that this AD affects 1,680 airplanes of U.S. registry. The FAA estimates the following costs to comply with this AD:

The FAA estimates the total cost per operator for the retained actions from AD 2020-22-16, AD 2021-16-01, and AD 2022-04-03 to be $7,650 (90 work-hours × $85 per work-hour) per AD.

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-22-16, Amendment 39-21312 (85 FR 70439, November 5, 2020); AD 2021-16-01, Amendment 39-21662 (86 FR 47212, August 24, 2021); AD 2022-04-03, Amendment 39-21944 (87 FR 10064, February 23, 2022); and

b. Adding the following new airworthiness directive:

2023-04-06 Airbus SAS: Amendment 39-22353; Docket No. FAA-2022-1573; Project Identifier MCAI-2022-00671-T.

(a) Effective Date

This airworthiness directive (AD) is effective April 10, 2023.

(b) Affected ADs

This AD replaces the ADs specified in paragraphs (b)(1) through (3) of this AD.

(1) AD 2020-22-16, Amendment 39-21312 (85 FR 70439, November 5, 2020) (AD 2020-22-16).

(2) AD 2021-16-01, Amendment 39-21662 (86 FR 47212, August 24, 2021) (AD 2021-16-01).

(3) AD 2022-04-03, Amendment 39-21944 (87 FR 10064, February 23, 2022) (AD 2022-04-03).

(c) Applicability

This AD applies to the Airbus SAS airplanes specified in paragraphs (c)(1) through (4) of this AD, certificated in any category, with an original airworthiness certificate or original export certificate of airworthiness issued on or before February 18, 2022.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Subject

Air Transport Association (ATA) of America Code 05, Time Limits/Maintenance Checks.

(e) Unsafe Condition

This AD was prompted by a determination that new or more restrictive airworthiness limitations are necessary. The FAA is issuing this AD to address to address a safety significant latent failure (that is not annunciated), which, in combination with one or more other specific failures or events, could result in a hazardous or catastrophic failure condition.

(f) Compliance

Comply with this AD within the compliance times specified, unless already done.

(g) Retained Revision of the Existing Maintenance or Inspection Program From AD 2020-22-16, With No Changes

This paragraph restates the requirements of paragraph (i) of AD 2020-22-16, with no changes. For airplanes with an original airworthiness certificate or original export certificate of airworthiness issued on or before January 17, 2020, except for Model A319-171N airplanes: Except as specified in paragraph (h) of this AD: Comply with all required actions and compliance times specified in, and in accordance with, European Union Aviation Safety Agency (EASA) AD 2020-0067, dated March 23, 2020 (EASA AD 2020-0067). Accomplishing the revision of the existing maintenance or inspection program required by paragraph (o) of this AD terminates the requirements of this paragraph.

(h) Retained Exceptions to EASA AD 2020-0067 With No Changes

This paragraph restates the exceptions specified in paragraph (j) of AD 2020-22-16, with no changes.

(1) The requirements specified in paragraphs (1) and (2) of EASA AD 2020-0067 do not apply to this AD.

(2) Paragraph (3) of EASA AD 2020-0067 specifies revising “the AMP” within 12 months after its effective date, but this AD requires revising the existing maintenance or inspection program, as applicable, to incorporate the “tasks and associated thresholds and intervals” specified in paragraph (3) of EASA AD 2020-0067 within 90 days after December 10, 2020 (the effective date of AD 2020-22-16).

(3) The initial compliance time for doing the tasks specified in paragraph (3) of EASA AD 2020-0067 is at the applicable “associated thresholds” specified in paragraph (3) of EASA AD 2020-0067, or within 90 days after December 10, 2020 (the effective date of AD 2020-22-16), whichever occurs later.

(4) The provisions specified in paragraphs (4) and (5) of EASA AD 2020-0067 do not apply to this AD.

(5) The “Remarks” section of EASA AD 2020-0067 does not apply to this AD.

(i) Retained Restrictions on Alternative Actions and Intervals From AD 2020-22-16, With a New Exception

This paragraph restates the requirements of paragraph (k) of AD 2020-22-16, with a new exception. Except as required by paragraph (o) of this AD, after the maintenance or inspection program has been revised as required by paragraph (g) of this AD, no alternative actions (e.g., inspections) or intervals are allowed unless they are approved as specified in the provisions of the “Ref. Publications” section of EASA AD 2020-0067.

(j) Retained Revision of the Existing Maintenance or Inspection Program From AD 2021-16-01 With No Changes

This paragraph restates the requirements of paragraph (g) of AD 2021-16-01, with no changes. For airplanes with an original airworthiness certificate or original export certificate of airworthiness issued on or before June 10, 2020, except for Model A319-171N airplanes: Revise the existing maintenance or inspection program, as applicable, by incorporating task(s) and associated thresholds and intervals specified in paragraph (3) of EASA AD 2020-0219, dated October 12, 2020 (EASA AD 2020-0219), except you are required to incorporate task(s) and associated thresholds and intervals within 90 days after September 28, 2021 (the effective date of AD 2021-16-01). Record a compliance time for the initial tasks of either the applicable “thresholds” incorporated by the requirements of paragraph (3) of EASA AD 2020-0219 or 90 days after September 28, 2021 (the effective date of AD 2021-16-01), whichever would occur later. Accomplishing the revision of the existing maintenance or inspection program required by paragraph (o) of this AD terminates the requirements of this paragraph.

(k) Retained Restrictions on Alternative Actions and Intervals From AD 2021-16-01, With a New Exception

This paragraph restates the requirements of paragraph (h) of AD 2021-16-01, with a new exception. Except as required by paragraph (o) of this AD, after the existing maintenance or inspection program has been revised as required by paragraph (j) of this AD, no alternative actions (e.g., inspections) and intervals are allowed unless they are approved as specified in the provisions of the “Ref. Publications” section of EASA AD 2020-0219.

(l) Retained Revision of the Existing Maintenance or Inspection Program From AD 2022-04-03, With No Changes

This paragraph restates the requirements of paragraph (g) of AD 2022-04-03, with no changes. For airplanes with an original airworthiness certificate or original export certificate of airworthiness issued on or before December 9, 2020, except for Model A319-171N airplanes: Except as specified in paragraph (m) of this AD: Comply with all required actions and compliance times specified in, and in accordance with, EASA AD 2021-0108, dated April 20, 2021 (EASA AD 2021-0108). Accomplishing the revision of the existing maintenance or inspection program required by paragraph (o) of this AD terminates the requirements of this paragraph.

(m) Retained Exceptions to EASA AD 2021-0108, With No Changes

This paragraph restates the exceptions specified in paragraph (h) of AD 2022-04-03, with no changes.

(1) Where EASA AD 2021-0108 refers to its effective date, this AD requires using March 30, 2022 (the effective date of AD 2022-04-03).

(2) The requirements specified in paragraphs (1) and (2) of EASA AD 2021-0108 do not apply to this AD.

(3) Paragraph (3) of EASA AD 2021-0108 specifies revising “the approved AMP” within 12 months after its effective date, but this AD requires revising the existing maintenance or inspection program, as applicable, within 90 days after March 30, 2022 (the effective date of AD 2022-04-03).

(4) The initial compliance time for doing the tasks specified in paragraph (3) of EASA AD 2021-0108 is at the applicable “thresholds” as incorporated by the requirements of paragraph (3) of EASA AD 2021-0108, or within 90 days after March 30, 2022 (the effective date of AD 2022-04-03), whichever occurs later.

(5) The provisions specified in paragraphs (4) of EASA AD 2021-0108 do not apply to this AD.

(6) The “Remarks” section of EASA AD 2021-0108 does not apply to this AD.

(n) Retained Restrictions on Alternative Actions and Intervals From AD 2022-04-03, With a New Exception

This paragraph restates the requirements of paragraph (i) of AD 2022-04-03, with a new exception. Except as required by paragraph (o) of this AD, after the existing maintenance or inspection program has been revised as required by paragraph (l) of this AD, no alternative actions (e.g., inspections) and intervals are allowed unless they are approved as specified in the provisions of the “Ref. Publications” section of EASA AD 2021-0108.

(o) New Revision of the Existing Maintenance or Inspection Program

Except as specified in paragraph (p) of this AD: Comply with all required actions and compliance times specified in, and in accordance with EASA AD 2022-0091, dated May 20, 2022 (EASA AD 2022-0091). Accomplishing the revision of the existing maintenance or inspection program required by this paragraph terminates the requirements of paragraphs (g), (j), and (l) of this AD.

(p) Exceptions to EASA AD 2022-0091

(1) The requirements specified in paragraphs (1) and (2) of EASA AD 2022-0091 do not apply to this AD.

(2) Paragraph (3) of EASA AD 2022-0091 specifies revising “the approved AMP” within 12 months after its effective date, but this AD requires revising the existing maintenance or inspection program, as applicable, within 90 days after the effective date of this AD.

(3) The initial compliance time for doing the tasks specified in paragraph (3) of EASA AD 2022-0091 is at the applicable “associated thresholds” as incorporated by the requirements of paragraph (3) of EASA AD 2022-0091, or within 90 days after the effective date of this AD, whichever occurs later.

(4) The provisions specified in paragraphs (4) and (5) of EASA AD 2022-0091 do not apply to this AD.

(5) This AD does not adopt the “Remarks” section of EASA AD 2022-0091.

(q) Provisions for Alternative Actions and Intervals

After the existing maintenance or inspection program has been revised as required by paragraph (o) of this AD, no alternative actions (e.g., inspections) and intervals are allowed unless they are approved as specified in the provisions of the “Ref. Publications” section of EASA AD 2022-0091.

(r) Terminating Action for Certain Requirements of AD 2020-22-16

(1) Accomplishing the actions required by paragraph (j) of this AD terminates the corresponding requirements of AD 2020-22-16, for the tasks identified in the service information referred to in EASA AD 2020-0219 only.

(2) Accomplishing the actions required by paragraph (l) of this AD terminates the limitations of Task 262300-00001-1-C, as required by paragraph (i) of AD 2020-22-16, for airplanes with an original airworthiness certificate or original export certificate of airworthiness issued on or before January 17, 2020 only.

(s) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (t) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(t) Additional Information

For more information about this AD, contact Vladimir Ulyanov, Aerospace Engineer, Large Aircraft Section, FAA, International Validation Branch, 2200 South 216th St., Des Moines, WA 98198; telephone 206-231-3229; email Vladimir.Ulyanov@faa.gov.

(u) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 10, 2023.

(i) European Union Aviation Safety Agency (EASA) AD 2022-0091, dated May 20, 2022.

(ii) [Reserved]

(4) The following service information was approved for IBR on December 10, 2020 (85 FR 70439, November 5, 2020).

(i) European Union Aviation Safety Agency (EASA) AD 2020-0067, dated March 23, 2020.

(ii) [Reserved]

(5) The following service information was approved for IBR on September 28, 2021 (86 FR 47212, August 24, 2021).

(i) European Union Aviation Safety Agency (EASA) AD 2020-0219, dated October 12, 2020.

(ii) [Reserved]

(6) The following service information was approved for IBR on March 30, 2022 (87 FR 10064, February 23, 2022).

(i) European Union Aviation Safety Agency (EASA) AD 2021-0108, dated April 20, 2021.

(ii) [Reserved]

(7) For EASA ADs 2022-0091, 2020-0067, 2020-0219, and 2021-0108, contact EASA, Konrad-Adenauer-Ufer 3, 50668 Cologne, Germany; telephone +49 221 8999 000; email ADs@easa.europa.eu; website easa.europa.eu. You may find these EASA ADs on the EASA website at ad.easa.europa.eu.

(8) You may view this material at the FAA, Airworthiness Products Section, Operational Safety Branch, 2200 South 216th St., Des Moines, WA. For information on the availability of this material at the FAA, call 206-231-3195.

(9) You may view this service information that is incorporated by reference at the National Archives and Records Administration (NARA). For information on the availability of this material at NARA, email fr.inspection@nara.gov, or go to: www.archives.gov/federal-register/cfr/ibr-locations.html.

Issued on February 16, 2023.
Christina Underwood,
Acting Director, Compliance & Airworthiness Division, Aircraft Certification Service.

[FR Doc. 2023-04467 Filed 3-3-23; 8:45 am]

BILLING CODE 4910-13-P